DEPARTMENT OF COMMERCE

International Trade Administration

19 CFR Part 351

[Docket No. 100602237-0250-02]

Import Administration IA ACCESS Pilot Program

AGENCY: Import Administration, International Trade Administration, Department of Commerce.

ACTION: Public notice and request for comments; correction.

SUMMARY: On Tuesday, June 8, 2010, the Department of Commerce (the Department) published the Public Notice and Request for Comments for Import Administration IA ACCESS Pilot Program in the Federal Register. The reference to the ITA docket number is incorrect. This document corrects that number. The June 8 document also stated that all comments should refer to RIN 0625-AA84. That RIN number is not applicable to the notice and need not be included in the comments.

FOR FURTHER INFORMATION CONTACT: Evangeline Keenan, Acting APO/Dockets Unit Director, Import Administration, APO/Dockets Unit, Room 1870, U.S. Department of Commerce, Constitution Avenue and 14th Street, NW., Washington, DC 20230; telephone: (202) 482-9157.

SUPPLEMENTARY INFORMATION: On Tuesday, June 8, 2010, the Department of Commerce (the Department) published the Public Notice and Request for Comments for Import Administration IA ACCESS Pilot Program in the Federal Register at 75 FR 32341. The reference to the Docket No. ITA-2010-XXXX, which is provided to assist the public in submitting comments in Regulations.gov, is incorrect. The Department publishes this notice to correct this number.

Accordingly, in FR Doc. 2010-13733, at page 32341 in the June 8, 2010, issue of the Federal Register, under the ADDRESSES section in the middle column, correct “Docket No. ITA-2010-XXXX” to read “Docket No. ITA-2010-0002.”

Furthermore, in the same paragraph, that notice stated that all comments should refer to RIN 0625-AA84. That RIN number is not applicable to the notice and need not be included in the comments.

Dated: June 15, 2010.
Paul Piquado,
Acting Deputy Assistant Secretary for Import Administration.

[FR Doc. 2010-14940 Filed 6-18-10; 8:45 am]

BILLING CODE 3510-DS-P